FEDERAL RESERVE SYSTEM

Solicitation of Applications for Membership on the Community Advisory Council Extension of Application Period

AGENCY: Board of Governors of the Federal Reserve System.

SUMMARY: On March 27, 2020 the Board published in the Federal Register a notice seeking applications for membership on the Community Advisory Council (CAC). The application period for this notice has been extended in light of ongoing challenges for households and businesses caused by the COVID-19 emergency in order to provide additional opportunity for interested persons to submit their application. The application period for individuals who wish to serve as CAC members has been extended until July 3, 2020.

DATES: The application for membership on the Community Advisory Council published on March 27, 2020, (85 FR 17331), has been extended from June 5, 2020 to July 3, 2020.

ADDRESSES: Individuals who are interested in being considered for the CAC may submit an application by any of the means identified in the solicitation notice.¹ Please submit your application using only one method.

¹ See, 85 FR 17331 (March 27, 2020).

FOR FURTHER INFORMATION CONTACT: Jennifer Fernandez, Community Development Analyst, Division of Consumer and Community Affairs, Board of Governors of the Federal Reserve System, 20th Street and Constitution Ave. NW, Washington, DC 20551, or (202) 452-2412, or CCA-CAC@frb.gov. Telecommunications Device for the Deaf (TDD) users may contact (202) 263-4869.

SUPPLEMENTARY INFORMATION: The Board created the Community Advisory Council (CAC) as an advisory committee to the Board on issues affecting consumers and communities. On March 27, 2020 at 85 FR 17331, the Board published in the Federal Register a notice seeking applications for membership on the CAC. That document stated that the application period would close on June 5, 2020. In light of ongoing challenges for households and businesses caused by the COVID-19 emergency, the application period for individuals who wish to be considered as CAC members has been extended in order to provide additional opportunity for interested persons to submit their application. Accordingly, applications now received between Monday, April 6, 2020 and Friday, July 3, 2020 will be considered for selection to the Community Advisory Council for terms beginning January 1, 2021.

By order of the Board of Governors of the Federal Reserve System, acting through the Director of the Division of Consumer and Community Affairs under delegated authority.
Ann E. Misback,
Secretary of the Board.

[FR Doc. 2020-11186 Filed 5-22-20; 8:45 am]

BILLING CODE 6210-01-P